ENVIRONMENTAL PROTECTION AGENCY

[ER-FRL-8595-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 17, 2009 (74 FR 17860).

Draft EISs

EIS No. 20090044, ERP No. D-IBR-J28023-CO, Aspinall Unit Operations—Colorado River Storage Project, Modifying Water Flow Operations, Implementation, Gunnison River, Gunnison, Montrose, Delta, and Mesa Counties, CO.

Summary: EPA expressed concerns because it appears that the proposed operations plan may not include sufficient peak flows to maintain high quality fish habitat. EPA also requested additional information on how the plan would meet the federal reserved water rights for the Black Canyon of the Gunnison National Park. Rating EC2.

EIS No. 20090115, ERP No. D-SFW-L65571-00, Western Snowy Plover Habitat Conservation Plan, Proposed Issuance of an Incidental Take Permit, Oregon Parks and Recreation Department, Oregon Coast, OR, CA, WA.

Summary: EPA has no objection to the proposed action. Rating LO.

EIS No. 20090122, ERP No. D-FRC-E03019-00, Phase VIII Expansion Project, Proposed to Construct, Own, Operate, and Maintain New Interstate National Gas Pipeline, Compressor, and Ancillary Facilities in Alabama and Florida.

Summary: EPA expressed concerns regarding potential impacts to noise, aquatic habitats, water resources, and wetlands, and made recommendations for mitigation measures. Rating EC2.

EIS No. 20090127, ERP No. D-FHW-E40826-TN, Interstate 55 Interchange at E.H. Crump Boulevard and South Boulevard Project, To Provide a Balanced Solution for Safety and Capacity Issues at the I55 Interchange, City of Memphis, Shelby County, TN.

Summary: EPA expressed concerns about mobile source air toxics and environmental justice. Rating EC2.

EIS No. 20090132, ERP No. D-NPS-D61063-00, Harpers Ferry National Historical Park, General Management Plan, Implementation, Harpers Ferry, Jefferson County, WV; Loudoun County, VA; and Washington County, MD.

Summary: EPA does not object to the proposed action. However, EPA requested clarifying information on a proposed pedestrian bridge and vegetation removal/manipulation in relation to rewatering the canal and as well as maintaining historic or scenic vistas in specified areas. Rating LO.

Final EISs

EIS No. 20090172, ERP No. F-NOA-K80052-CA, Southwest Fisheries Science Center Replacement, Construction and Operation, located on University of California, La Jolla, CA.

Summary: EPA does not object to the proposed action.

EIS No. 20090148, ERP No. FS-COE-E01013-FL, Rock Mining in the Lake Belt Region Plan, Continuance of Limestone Mining Construction, Section 404 Permit, Miami-Dade County, FL.

Summary: EPA expressed objections to impacts to wetlands from the proposed limestone mining, and made recommendations to reduce and mitigate those impacts, as well as seepage flows.

Dated: July 7, 2009.
Robert W. Hargrove,
Director, NEPA Compliance Division,
Office of Federal Activities.

[FR Doc. E9-16371 Filed 7-9-09; 8:45 am]

BILLING CODE 6560-50-P